DEPARTMENT OF HEALTH AND HUMAN SERVICES

Food and Drug Administration

Advisory Committees; Tentative Schedule of Meetings for 2008

AGENCY: Food and Drug Administration, HHS.

ACTION: Notice.

SUMMARY: The Food and Drug Administration (FDA) is announcing a tentative schedule of forthcoming meetings of its public advisory committees for 2008. During 1991, at the request of the Commissioner of Food and Drugs (the Commissioner), the Institute of Medicine (the IOM) conducted a study of the use of FDA's advisory committees. In its final report, one of the IOM's recommendations was for the agency to publish an annual tentative schedule of its meetings in the Federal Register. This publication implements the IOM's recommendation.

FOR FURTHER INFORMATION CONTACT: Theresa L. Green, Advisory Committee Oversight and Management Staff (HF-4), Food and Drug Administration, 5600 Fishers Lane, Rockville, MD 20857, 301-827-1220.

SUPPLEMENTARY INFORMATION: The IOM, at the request of the Commissioner, undertook a study of the use of FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative, amendments to this notice will not be published in the Federal Register. However, changes to the schedule will be posted on the FDA advisory committees' Internet site located at http://www.fda.gov/oc/advisory/default.htm. FDA will continue to publish a Federal Register notice 15 days in advance of each upcoming advisory committee meeting, to announce the meeting (21 CFR 14.20).

The following list announces FDA's tentatively scheduled advisory committee meetings for 2008. You may also obtain up-to-date information by calling the Advisory Committee Information Line, 1-800-741-8138 (301-443-0572 in the Washington, DC area).

Committee Name | Tentative Date of Meeting(s) | Advisory Committee 10-Digit Information Line Code
OFFICE OF THE COMMISSIONER
Pediatric Advisory Committee | March and November days to be announced | 8732310001
Risk Communication Advisory Committee | February 28-29, May 15-16, August 21-22, November 17-18 | 8732112560
Science Board to FDA | May and October days to be announced | 3014512603
CENTER FOR BIOLOGICS EVALUATION AND RESEARCH
Allergenic Products Advisory Committee | April 29, October 17 | 3014512388
Blood Products Advisory Committee | May 1-2, August 14-15, December 11-12 | 3014519516
Cellular, Tissue and Gene Therapies Advisory Committee | April 10-11, November 13-14 | 3014512389
Transmissible Spongiform Encephalopathies Advisory Committee | To be announced | 3014512392
Vaccines and Related Biological Products Advisory Committee | February 20-21, May 21-22, September 24-25, November 19-20 | 3014512391
CENTER FOR DRUG EVALUATION AND RESEARCH
Anesthetic and Life Support Drugs Advisory Committee | March 11, May days to be announced | 3014512529
Anti-Infective Drugs Advisory Committee | February 27-28, April 1-3 | 3014512530
Antiviral Drugs Advisory Committee | To be announced | 3014512531
Arthritis Advisory Committee | July, September, and November days to be announced | 3014512532
Cardiovascular and Renal Drugs Advisory Committee | June 24-25, August 19-20, December 9-10 | 3014512533
Dermatologic and Ophthalmic Drugs Advisory Committee | April days to be announced | 3014512534
Drug Safety and Risk Management Advisory Committee | February 1, May days to be announced | 3014512535
Endocrinologic and Metabolic Drugs Advisory Committee | April 16-17, July 1-2, October 29-30, November 19-20 | 3014512536
Gastrointestinal Drugs Advisory Committee | January 23, May days to be announced | 3014512538
Nonprescription Drugs Advisory Committee | To be announced | 3014512541
Oncologic Drugs Advisory Committee | March 13, April days to be announced, May 30, September 10-11, December 15-16 | 3014512542
Peripheral and Central Nervous System Drugs Advisory Committee | May days to be announced | 3014512543
Pharmaceutical Science and Clinical Pharmacology, Advisory Committee for | March 18-19 | 3014512539
Psychopharmacologic Drugs Advisory Committee | February 6 | 3014512544
Pulmonary-Allergy Drugs Advisory Committee | February 20 | 3014512545
Reproductive Health Drugs, Advisory Committee for | To be announced | 3014512537
CENTER FOR DEVICES AND RADIOLOGICAL HEALTH
Device Good Manufacturing Practice Advisory Committee | August 12, October 20-21 | 3014512398
Medical Devices Advisory Committee (Comprised of 18 Panels)
Anesthesiology and Respiratory Therapy Devices Panel | January 23, March 26, September 17 | 3014512624
Circulatory System Devices Panel | August 26-27, November 14-15 | 3014512625
Clinical Chemistry and Clinical Toxicology Devices Panel | April 9-10, August 13-14, December 4-5 | 3014512514
Dental Products Panel | June 11, September 10, November 19 | 3014512518
Ear, Nose, and Throat Devices Panel | April 16-17, June 25-26, August 28-29, October 28-29, December 10-11 | 3014512522
Gastroenterology-Urology Devices Panel | October 17 | 3014512523
General and Plastic Surgery Devices Panel | June 10-11, October 21-22 | 3014512519
General Hospital and Personal Use Devices Panel | May 6-7, September 16-17 | 3014512520
Hematology and Pathology Devices Panel | April 25, October 17 | 3014512515
Immunology Devices Panel | November 6-7 | 3014512516
Medical Devices Dispute Resolution Panel | To be announced as needed | 3014510232
Microbiology Devices Panel | April 24-25, June 19-20, October 23-24 | 3014512517
Molecular and Clinical Genetics Panel | May 6-7, November 11-12 | 3014510231
Neurological Devices Panel | March 25-26, June 3-4, September 23-24, November 6-7 | 3014512513
Obstetrics and Gynecology Devices Panel | April 17-18, June 19-20, August 14-15, October 16-17, December 11-12 | 3014512524
Ophthalmic Devices Panel | February 21-22, May 15-16, September 18-19, November 20-21 | 3014512396
Orthopedic and Rehabilitation Devices Panel | April 21-22, June 16-17, August 18-19, October 20-21, December 8-9 | 3014512521
Radiological Devices Panel | April 15-16, August 12, November 4 | 3014512526
National Mammography Quality Assurance Advisory Committee | October 13-14 | 3014512397
Technical Electronic Product Radiation Safety Standards Committee | October 8 | 3014512399
CENTER FOR FOOD SAFETY AND APPLIED NUTRITION
Food Advisory Committee | July 22, December 2 | 3014510564
CENTER FOR VETERINARY MEDICINE
Veterinary Medicine Advisory Committee | March day to be announced | 3014512548
National Center for Toxicological Research (NCTR)
Science Advisory Board to NCTR | August 12-13 | 3014512559

Dated: January 7, 2008.
Randall W. Lutter,
Deputy Commissioner for Policy.

[FR Doc. E8-567 Filed 1-14-08; 8:45 am]

BILLING CODE 4160-01-S